DEPARTMENT OF COMMERCE

National Oceanic and Atmospheric Administration

[RTID 0648-XC834]

Atlantic Highly Migratory Species; Meeting of the Atlantic Highly Migratory Species Advisory Panel; Advisory Panel Nominations

AGENCY: National Marine Fisheries Service (NMFS), National Oceanic and Atmospheric Administration (NOAA), Commerce.

ACTION: Notice of public meeting and webinar/conference call; solicitation of nominations.

SUMMARY: NMFS will hold a 3-day Atlantic Highly Migratory Species (HMS) Advisory Panel (AP) meeting in May 2023. The intent of the meeting is to consider options for the conservation and management of Atlantic HMS. The meeting is open to the public. NMFS also is soliciting nominations for the HMS AP. NMFS consults with, and considers the comments and views of, the HMS AP when preparing and implementing Fishery Management Plans (FMPs) or FMP amendments for Atlantic tunas, swordfish, sharks, and billfish. Nominations are being sought to fill one environmental seat on the HMS AP for a 3-year appointment. Individuals with definable interests in the environmental community will be considered for membership on the HMS AP under this solicitation.

DATES: The AP meeting and webinar will be held on Tuesday, May 9, from 10 a.m. to 5 p.m.; Wednesday, May 10, from 9:30 a.m. to 5 p.m.; and Thursday, May 11, from 9 a.m. to 12 p.m. Nominations must be received on or before April 15, 2023.

ADDRESSES: The meeting will be held in the Silver Spring, Maryland area, with the location being announced on the NMFS website prior to the meeting. The meeting will also be accessible via WebEx webinar/conference call. Meeting location, conference call, and webinar access information will be available at: https://www.fisheries.noaa.gov/event/may-2023-hms-advisory-panel-meeting.

Participants accessing the webinar are strongly encouraged to log/dial in 15 minutes prior to the meeting. NMFS will show the presentations via webinar and allow public comment during identified times on the agenda.

You may submit AP nominations and requests for the Advisory Panel Statement of Organization, Practices, and Procedures by email to HMSAP.Nominations@noaa.gov. Include in the subject line the following identifier: “HMS AP Nominations.”

FOR FURTHER INFORMATION CONTACT: Peter Cooper, 301-427-8503, Peter.Cooper@noaa.gov, or Tiffany Weidner, 301-427-8550, HMSAP.Nominations@noaa.gov.

SUPPLEMENTARY INFORMATION: Atlantic HMS fisheries (tunas, billfish, swordfish, and sharks) are managed under the authority of the Magnuson-Stevens Fishery Conservation and Management Act (Magnuson-Stevens Act; 16 U.S.C. 1801 et seq.) and the Atlantic Tunas Convention Act (16 U.S.C. 971 et seq.). The 2006 Consolidated HMS FMP and its amendments are implemented by regulations at 50 CFR part 635.

HMS AP Meeting

The Magnuson-Stevens Act requires the establishment of APs and requires NMFS to consult with and consider the comments and views of AP members during the preparation and implementation of FMPs or FMP amendments (16 U.S.C. 1854(g)(1)(A)-(B)). NMFS meets with the HMS AP approximately twice each year to consider potential alternatives for the conservation and management of Atlantic tunas, swordfish, billfish, and shark fisheries, consistent with the Magnuson-Stevens Act.

For this meeting, we anticipate discussing, among other topics:

• Bluefin tuna management activities;

• Amendment 15 to the 2006 Consolidated HMS FMP regarding spatial management;

• Amendment 16 to the 2006 Consolidated HMS FMP regarding shark management;

• Outcomes of the 2022 International Commission for the Conservation of Atlantic Tunas (ICCAT) Annual Meeting; and

• Atlantic HMS Essential Fish Habitat 5-Year Review.

We also anticipate inviting other NMFS offices and the U.S. Coast Guard to provide updates, if available, on their activities relevant to HMS fisheries. Additional information on the meetings and a copy of the draft agenda will be posted prior to the meeting (see ADDRESSES).

In-person access to the meeting by the public may be limited depending on the Centers for Disease Control and Prevention's COVID-19 Community Level for Montgomery County, MD at the time of the meeting. All members of the public will have virtual access to the meeting available via webinar and status updates of in-person public access to the meeting will be available on the NMFS website (see ADDRESSES).

HMS AP Nominations Procedures and Guidelines

Participants

NMFS seeks to fill one vacancy on the HMS AP for a term starting in 2023. Specifically, NMFS seeks nominations (which may include self-nomination) from the environmental/non-governmental organization (NGO) sector of individuals who are knowledgeable about HMS and/or HMS fisheries. Representation on the HMS AP, as shown in Table 1, consists of 12 members from the commercial sector, 12 from the recreational sector, 4 from environmental/NGO sector, 4 from the academic sector, and the ICCAT Advisory Committee Chair.

Table 1—Current Representation on the HMS AP by Sector, Region, and Species
Sector | Fishing region | Species | Date appointed | Date term expires | Member status
Academic | Southeast Gulf of Mexico | Sharks | 1/1/2022 | 12/31/2023 | Active.
Academic | Northeast/Mid-Atlantic | Tuna/Shark | 1/1/2022 | 12/31/2024 | Active.
Academic | Southeast/Gulf of Mexico | Sharks | 1/1/2022 | 12/31/2024 | Active.
Academic | Northeast | Tunas | 1/1/2022 | 12/31/2024 | Active.
Commercial | South Atlantic/Caribbean | Swordfish | 1/1/2023 | 12/31/2025 | Active.
Commercial | Mid-Atlantic | Swordfish/Tuna | 1/1/2023 | 12/31/2025 | Active.
Commercial | Gulf of Mexico | Swordfish/Tuna | 1/1/2023 | 12/31/2025 | Active.
Commercial | Gulf of Mexico | Sharks | 1/1/2021 | 12/31/2023 | Active.
Commercial | Northeast | Tuna | 1/1/2021 | 12/31/2023 | Active.
Commercial | Gulf of Mexico/Southeast | Swordfish/Tuna | 1/1/2021 | 12/31/2023 | Active.
Commercial | Gulf of Mexico | Tuna | 1/1/2021 | 12/31/2023 | Active.
Commercial | Northeast | Tuna | 1/1/2021 | 12/31/2023 | Active.
Commercial | Northeast/Southeast/Gulf of Mexico | HMS/Tuna | 1/1/2022 | 12/31/2024 | Active.
Commercial | Southeast | Sharks | 1/1/2022 | 12/31/2024 | Active.
Commercial | Gulf of Mexico | All | 1/1/2022 | 12/31/2024 | Active.
Commercial | Northeast | Swordfish/Tuna | 1/1/2022 | 12/31/2024 | Active.
Environmental | All | HMS | 1/1/2020 | 12/31/2022 | Expired.
Environmental | All | Tuna | 1/1/2023 | 12/31/2025 | Active.
Environmental | All | Shark | 1/1/2021 | 12/31/2023 | Active.
Environmental | Caribbean | HMS | 1/1/2022 | 12/31/2024 | Active.
Recreational | Northeast | Tuna | 1/1/2023 | 12/31/2025 | Active.
Recreational | Northeast | Tuna/Sharks | 1/1/2023 | 12/31/2025 | Active.
Recreational | All | HMS | 1/1/2023 | 12/31/2025 | Active.
Recreational | South Atlantic/Gulf of Mexico | HMS | 1/1/2023 | 12/31/2025 | Active.
Recreational | Gulf of Mexico | HMS | 1/1/2023 | 12/31/2025 | Active.
Recreational | All | Billfish | 1/1/2021 | 12/31/2023 | Active.
Recreational | Mid-Atlantic | Shark | 1/1/2021 | 12/31/2023 | Active.
Recreational | Southeast/Mid-Atlantic | Billfish | 1/1/2021 | 12/31/2023 | Active.
Recreational | Northeast | Tuna/Shark | 1/1/2022 | 12/31/2024 | Active.
Recreational | Northeast/Southeast/Gulf of Mexico | All | 1/1/2022 | 12/31/2024 | Active.
Recreational | Mid-Atlantic | HMS | 1/1/2022 | 12/31/2024 | Active.
Recreational | Southeast | HMS/Billfish | 1/1/2022 | 12/31/2024 | Active.

In filling vacancies, NMFS will seek to maintain the current representation from each of the sectors. NMFS also considers species expertise and representation from the fishing regions (Northeast, Mid-Atlantic, Southeast, Gulf of Mexico, and Caribbean) to ensure the diversity and balance of the HMS AP. The intent is to have a group that, as a whole, reflects an appropriate and equitable balance and mix of expertise and interests given the responsibilities of the HMS AP. The HMS AP also includes one member representing each relevant Fishery Management Council and ex-officio participants representing the coastal states and interstate commissions.

Through this notice, NMFS is also taking steps to advance a transparent process that promotes equity, inclusion, and accessibility when seeking nominees to serve in these important roles. As such, NMFS encourages nominations for women and for individuals from underserved communities that meet the knowledge and experience of the positions described in this notice. See Executive Order (E.O.) 13985 (Advancing Racial Equity and Support for Underserved Communities Through the Federal Government) § 2 (defining “underserved communities” as “populations sharing a particular characteristic, as well as geographic communities, that have been systematically denied a full opportunity to participate in aspects of economic, social, and civic life,” “such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.”). E.O. 13985 is available at:

https://www.federalregister.gov/documents/2021/01/25/2021-01753/advancing-racial-equity-and-support-for-underserved-communities-through-the-federal-government.

NMFS will provide the necessary administrative support, including technical assistance, for the HMS AP. However, NMFS will not compensate participants with monetary support of any kind. Depending on availability of funds, members may be reimbursed for travel costs related to the HMS AP meetings.

Nomination Procedures for Appointments to the AP

Nomination packages should include:

1. The name of the nominee and a description of their expertise, experience and interest in HMS or HMS fisheries, or in particular species of sharks, swordfish, tunas, or billfish;

2. Contact information, including nominee's mailing address, phone, and email;

3. A statement of nominee's background and/or qualifications;

4. A written commitment that the nominee shall actively participate in good faith, and consistent with ethics obligations, in the meetings and tasks of the HMS AP; and

5. A list of outreach resources and/or references that the nominee has at their disposal to communicate their qualifications for HMS AP membership.

Nominees for this vacancy should have experience representing a private, non-governmental, regional, national, or international environmental organization that represents marine fishery interests regarding HMS.

Tenure for the HMS AP

Member tenure will be for 3 years, with approximately one third of the members' terms expiring on December 31 of each year. Nominations are sought for a term beginning in 2023 and expiring at the end of 2025.

Members can serve a maximum of 3 consecutive terms (a total of 9 consecutive years). Afterwards, a member must then sit off the HMS AP for a single year before reapplying for a new term.

Dated: March 17, 2023.
Jennifer M. Wallace,
Acting Director, Office of Sustainable Fisheries, National Marine Fisheries Service.

[FR Doc. 2023-05919 Filed 3-22-23; 8:45 am]

BILLING CODE 3510-22-P